DEPARTMENT OF ENERGY

Federal Energy Regulatory Commission

Combined Notice of Filings

Take notice that the Commission has received the following Natural Gas Pipeline Rate and Refund Report filings:

Docket Numbers: RP20-1197-000.

Applicants: Portland Natural Gas Transmission System.

Description: § 4(d) Rate Filing: PXP Phase III Agreement Filing to be effective 11/1/2020.

Filed Date: 9/18/20.

Accession Number: 20200918-5020.

Comments Due: 5 p.m. ET 9/30/20.

Docket Numbers: RP20-1198-000.

Applicants: Northwest Pipeline LLC.

Description: § 4(d) Rate Filing: 2020 Housekeeping Filing to be effective 10/3/2020.

Filed Date: 9/18/20.

Accession Number: 20200918-5039.

Comments Due: 5 p.m. ET 9/30/20.

Docket Numbers: RP20-1199-000.

Applicants: ANR Storage Company.

Description: § 4(d) Rate Filing: Creditworthiness to be effective 10/18/2020.

Filed Date: 9/18/20.

Accession Number: 20200918-5054.

Comments Due: 5 p.m. ET 9/30/20.

Docket Numbers: RP20-1200-000.

Applicants: Gulf South Pipeline Company, LLC.

Description: Compliance filing Compliance Filing in Docket No. CP17-476-002 to be effective 9/18/2020.

Filed Date: 9/18/20.

Accession Number: 20200918-5064.

Comments Due: 5 p.m. ET 9/30/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2020.
Kimberly D. Bose,
Secretary.

[FR Doc. 2020-21200 Filed 9-24-20; 8:45 am]

BILLING CODE 6717-01-P